DEPARTMENT OF LABOR

Employment and Training Administration

20 CFR Part 655

Temporary Employment of Foreign Workers in the United States; CFR Correction

In Title 20 of the Code of Federal Regulations, Parts 500 to 656, revised as of April 1, 2014, on page 314, in § 655.10, the second paragraph (h) and the second paragraph (i) are removed.

[FR Doc. 2015-09948 Filed 4-27-15; 8:45 am]

BILLING CODE 1505-01-P